DEPARTMENT OF ENERGY

Office of Energy Efficiency and Renewable Energy

State Energy Advisory Board

AGENCY: Department of Energy.

ACTION: Notice of open meeting.

SUMMARY: This notice announces a meeting of the State Energy Advisory Board (STEAB). The Federal Advisory Committee Act (Pub. L. 92-463; 86 Stat. 770), requires that public notice of these meetings be announced in the Federal Register.

DATES: October 16, 2007 (Open Meeting). October 17, 2007 (Open Meeting). October 18, 2007 (Open Meeting).

ADDRESSES: L'Enfant Plaza Hotel, 480 L'Enfant Plaza, SW., Washington, DC 20024.

FOR FURTHER INFORMATION CONTACT: Gary Burch, STEAB Designated Federal Officer, Assistant Manager, Office of Intergovernmental Projects & Outreach, Golden Field Office, Energy Efficiency and Renewable Energy (EERE), U.S. Department of Energy, 1617 Cole Boulevard, Golden, CO 80401, Telephone 303/275-4801.

SUPPLEMENTARY INFORMATION: Purpose of the Board: To make recommendations to the Assistant Secretary for the Office of Energy Efficiency and Renewable Energy regarding goals and objectives, programmatic and administrative policies, and to otherwise carry out the Board's responsibilities as designated in the State Energy Efficiency Programs Improvement Act of 1990 (Pub. L. 101-440).

Tentative Agenda: Briefings on, and discussions of:

—EERE Energy Efficiency and Policy.

• EERE Commercialization and Deployment.

• EERE Weatherization and Intergovernmental Program.

• General Counsel.

• EERE Solar Energy Technologies Program.

• EERE Building Technologies Program.

• EERE Industrial Technologies Program.

—Board Discussions/Responses to Presentations.

—STEAB Effectiveness/Formal Discussions Regarding Current STEAB Products and the Potential Development of New Recommendations and Resolutions.

— STEAB Effectiveness Discussions for the Development of the FY 07 STEAB Annual Report.

Public Participation: The meeting is open to the public. Written statements may be filed with the Board either before or after the meeting. Members of the public who wish to make oral statements pertaining to agenda items should contact Gary Burch at the address or telephone number listed above. Requests to make oral presentations must be received five days prior to the meeting; reasonable provision will be made to include the statements in the agenda. The Chair of the Board is empowered to conduct the meeting in a fashion that will facilitate the orderly conduct of business.

Minutes: The minutes of the meeting will be available for public review and copying within 60 days on the STEAB Web site, http://www.steab.org.

Issued at Washington, DC, on August 22, 2007.
Rachel Samuel,
Deputy Committee Management Officer.

[FR Doc. E7-17034 Filed 8-27-07; 8:45 am]

BILLING CODE 6450-01-P